SOCIAL SECURITY ADMINISTRATION

20 CFR Parts 404 and 416

[Docket No. SSA-2014-0081]

RIN 0960-AH74

Vocational Factors of Age, Education, and Work Experience in the Adult Disability Determination Process; Extending of the Comment Period

AGENCY: Social Security Administration.

ACTION: Advance notice of proposed rulemaking; extension of the comment period.

SUMMARY: On September 14, 2015, we published in the Federal Register an advanced notice of proposed rulemaking (ANPRM) regarding Vocational Factors of Age, Education, and Work Experience in the Adult Disability Determination Process and solicited public comments. We provided a 60-day comment period ending on November 13, 2015. We are extending the comment period to December 14, 2015. Our extension of the comment date accommodates and facilitates public comments we expect in response to the National Disability Forum we are sponsoring on Friday, November 20, 2015. During the forum, we are hosting a moderator-led discussion entitled: The Realities of Work for Individuals with Disabilities: Impact of Age, Education, and Work Experience (for information on the forum see the SUPPLEMENTARY INFORMATION section).

DATES: The comment period for the advanced notice of proposed rulemaking published on September 14, 2015 (80 FR 55050), is extended. To ensure that your written comments are considered, we must receive them on or before December 14, 2015.

ADDRESSES: You may submit comments by any one of three methods—Internet, fax, or mail. Do not submit the same comments multiple times or by more than one method. Regardless of which method you choose, please state that your comments refer to Docket No. SSA-SSA-2014-0081 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2014-0081. The system will issue a tracking number to confirm your submission. You will not be able to view your comment immediately because we must post each comment manually. It may take up to a week for your comment to be viewable.

2. Fax: Fax comments to (410) 966-2830.

3. Mail: Address your comments to the Office of Regulations and Reports Clearance, Social Security Administration, 3100 West High Rise, 6401 Security Boulevard, Baltimore, Maryland 21235-6401.

Comments are available for public viewing on the Federal eRulemaking portal at http://www.regulations.gov or in person, during regular business hours, by arranging with the contact person identified below.

FOR FURTHER INFORMATION CONTACT: Mary Quatroche, Office of Disability Policy, Social Security Administration, 6401 Security Boulevard, Baltimore, MD 21235-6401, (410) 966-4794. For information on eligibility or filing for benefits, call our national toll-free number, 1-800-772-1213 or TTY 1-800-325-0778, or visit our Internet site, Social Security Online, at http://www.socialsecurity.gov.

SUPPLEMENTARY INFORMATION: This document extends the comment period to Monday, December 14, 2015, for the advanced notice of proposed rulemaking that we published on September 14, 2015. We are extending the comment period in light of the comments we anticipate receiving from our National Disability Forum occurring on November 20, 2015, which includes a panel discussion on the topic of our vocational factors. If you have already provided comments on the proposed rules, we will consider your comments and you do not need to resubmit them.

Social Security Administration—National Disability Forum

Friday, November 20, 2015, 1:00 p.m.-3:00 p.m., National Education Association, 1201 16th Street NW., Washington, DC 20036

Speakers

• Paul Van de Water—Center on Budget and Policy Priorities—Moderator

• Kate Lang—Justice in Aging

• Rebecca Vallas—Center for American Progress

• Mark Warshawsky—Mercatus Center at George Mason University

• Ross Eisenbrey—Economic Policy Institute

• Kim Hildred—Hildred Consulting, LLC

Carolyn W. Colvin,
Acting Commissioner of Social Security.

[FR Doc. 2015-27692 Filed 10-29-15; 8:45 am]

BILLING CODE 4191-02-P